DEPARTMENT OF JUSTICE

Notice of Lodging Proposed Consent Decree

In accordance with Departmental Policy, 28 CFR 50.7, notice is hereby given that a proposed Consent Decree in United States v. Jerrel Dungy and Long Prairie Farm, LLC, Civil Action No. 3:13-cv-00174-MJR-PMF, was lodged with the United States District Court for the Southern District of Illinois on February 21, 2013.

This proposed Consent Decree concerns a complaint filed by the United States against Jerrel Dungy and Long Prairie Farm, LLC, pursuant to Sections 309(b) and (d) of the Clean Water Act, 33 U.S.C. 1319(b) and (d), to obtain injunctive relief from and impose civil penalties against the Defendants for violating the Clean Water Act by discharging pollutants without a permit into waters of the United States. The proposed Consent Decree resolves these allegations by requiring the Defendants to restore the impacted areas and to pay a civil penalty. The proposed Consent Decree also provides for the Defendants to perform a supplemental environmental project.

The Department of Justice will accept written comments relating to this proposed Consent Decree for thirty (30) days from the date of publication of this Notice. Please address comments to Alan D. Greenberg, Senior Attorney, United States Department of Justice, Environment and Natural Resources Division, 999 18th Street, Suite 370—South Terrace, Denver, CO 80202, and refer to United States of America v. Jerrel Dungy and Long Prairie Farm, LLC, DJ # 90-5-1-1-19534.

The proposed Consent Decree may be examined at the Clerk's Office, United States District Court for the Southern District of Illinois, 301 West Main Street, Benton, IL 62812. In addition, the proposed Consent Decree may be examined electronically at http://www.justice.gov/enrd/Consent_Decrees.html.

Cherie L. Rogers,
Assistant Section Chief, Environmental Defense Section, Environment and Natural Resources Division.

[FR Doc. 2013-04630 Filed 2-27-13; 8:45 am]

BILLING CODE P